DEPARTMENT OF HEALTH AND HUMAN SERVICES

Centers for Disease Control and Prevention

[60Day-04-30]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project: Health Hazard Evaluations/Technical Assistance and Emerging Problems, OMB No. 0920-0260-EXTENSION-National Institute for Occupational Safety and Health (NIOSH), Centers for Disease Control and Prevention (CDC).

Background

In accordance with the mandates of the Occupational Safety and Health Act of 1970 and the Federal Mine Safety and Health Act of 1977, the National Institute for Occupational Safety and Health (NIOSH) responds to requests for health hazard evaluations to identify chemical, biological or physical hazards in workplaces throughout the United States.

To comprehensively evaluate hazards in response to a request for a health hazard evaluation, NIOSH frequently conducts an on-site evaluation. The main purpose of an on-site evaluation is to help employers and employees identify and eliminate occupational health hazards. The interview and questionnaires are specific to each workplace and its suspected disease(s) and hazards. The questionnaires are composed of items that were developed from standard medical and epidemiologic techniques.

NIOSH distributes interim and final reports of health hazard evaluations (excluding personal identifiers) to requesters, employers, employee representatives, the Department of Labor; and as appropriate to the Occupational Safety and Health Administration or Mine Safety and Health Administration, and other state and federal agencies.

NIOSH administers a followback program to assess the effectiveness of its health hazard evaluation program in reducing workplace hazards. This program entails the mailing of followback questionnaires to employer and employee representatives in the workplace and, in some instances, to a followback on-site evaluation. Due to the large number of investigations conducted each year, as well as the diverse and unpredictable nature of these investigations, and the need to respond quickly to requests for assistance, NIOSH requests consolidated clearance for data collection of its health hazard evaluations. There is no cost to respondents.

Respondents | Number of respondents | Number of responses/respondent | Average burden/response (in hrs) | Total burden hours
Employees (interview) | 4000 | 1 | 15/60 | 1000
Employees (questionnaire) | 4000 | 1 | 30/60 | 2000
Employees (followback) | 300 | 2 | 30/60 | 300
Employers (followback) | 300 | 2 | 30/60 | 300
Total |  |  |  | 3600

Dated: March 4, 2004.
Alvin Hall,
Director, Management Analysis and Services Office, Centers for Disease Control and Prevention.

[FR Doc. 04-5516 Filed 3-10-04; 8:45 am]

BILLING CODE 4163-18-P